DEPARTMENT OF AGRICULTURE

Office of the Secretary

Privacy Act; System of Records

AGENCY: Office of the Secretary, USDA.

ACTION: Notice of revision of Privacy Act systems of records and proposed new routine uses.

SUMMARY: Notice is hereby given that the United States Department of Agriculture (USDA) is proposing to change the USDA Privacy Act System of Records by re-designating a USDA Office of Outreach system of records as a USDA Farm Service Agency (FSA) system. The system is being added numerically, editorial and clarification amendments are noted, and new routine uses are being added to the system.

DATES: This notice will be adopted without further publication in the Federal Register on December 29, 2003, unless modified by a subsequent notice to incorporate comments received from the public. Comments must be received by the contact person listed below on or before December 17, 2003, to be assured consideration.

ADDRESSES: Interested persons may submit written comments to Ronald W. Holling, Assistant to the Director, Office of Business and Program Integration, Farm Service Agency, STOP 0501, 1400 Independence Avenue, SW., Washington, DC 20250-0501, (202) 720-8530; e-mail Ronald.Holling@usda.gov. The public may inspect comments received on this notice Monday-Friday, except holidays, between 8:15 a.m. and 4:45 p.m. in Room 4704-S at the above address.

FOR FURTHER INFORMATION CONTACT: Ronald W. Holling, Assistant to the Director, Office of Business and Program Integration, Farm Service Agency, STOP 0501, 1400 Independence Avenue, SW., Washington, DC 20250-0501, (202) 720-8530; e-mail Ronald_Holling@usda.gov.

SUPPLEMENTARY INFORMATION: This notice concerns a Privacy Act system of records currently maintained by the USDA Office of Outreach. Pursuant to the Privacy Act, 5 U.S.C. 552a, USDA hereby takes the following action: Transfer of responsibility for the Privacy Act System of records for the Minority Farm Register from USDA's Office of Outreach to FSA and addition of new routine uses.

The Register is a voluntary list of minority farm or ranch operators, landowners, tenants and others with farming or ranching interest. It is being created in an effort to address the decline of minority-owned farms. Minority farmers and their advocates called for the creation of a register at USDA Civil Rights Action Team public forums in early 1997 because of the decline in the amount of farm land owned by minorities, especially African-Americans. Register participants will receive USDA program information to help sustain or increase present ownership levels.

The Register will be used and administered by FSA's Office of Outreach to expand its Outreach and Assistance for Socially Disadvantaged Farmers and Ranchers Program. The Office of Outreach will use the Register to provide detailed individual information or summary information about all participants to Government agencies, minority-serving educational institutions, and community-based organizations engaged in farm land outreach and assistance efforts. The Register will enable those organizations to disseminate to minority farm owners and operators the most comprehensive information about FSA programs and services, including commodity programs, conservation programs, disaster assistance programs, farm loan programs, and price support programs. Minority farm operators who currently do not own any land are encouraged to participate so they may also receive information on targeted programs to include possible land ownership.

Most U.S. farm land is already defined by geographic location, by owner, and by operator in records maintained by FSA. For those people for whom FSA maintains current records, participation in the Register will only require signature of the Minority Farm Register permission form. If a minority farm land operator and/or owner whose information is not already on file wishes to be included on the Register, he or she will provide name, address, phone number, Social Security Number, farm location, race, ethnicity and gender on the Minority Farm Register permission form. Names and addresses will be the only required information. Providing Social Security Numbers, phone numbers, race, ethnicity and gender will be completely voluntary. The permission form will be issued in Spanish and English. Informational registration materials will be distributed to local, State and Federal community-based organizations, educational institutions and other groups serving minority clientele.

Pursuant to the Privacy Act, 5 U.S.C. 552a, USDA hereby takes the following action:

(1) USDA/FSA-15, “Voluntary Minority Farm Register File.” This system is being added numerically, editorial and clarification amendments are noted, and new routine uses are being added to the system. A Report on New System, required by 5 U.S.C. 552a(r), as implemented by OMB Circular A_130, was sent to the Chairman, Committee on Governmental Affairs, United States Senate, the Chairman, Committee on Government Reform and Oversight, House of Representatives, and the Administrator, Office of Information and Regulatory Affairs, Office of Management and Budget.

Signed at Washington, DC, on November 4, 2003.
Ann M. Veneman,
Secretary.

USDA/FSA-15

SYSTEM NAME:

Voluntary Minority Farm Register File (Automated), USDA/FSA-15.

SYSTEM LOCATION:

Deputy Administrator for Field Operations, Farm Service Agency, STOP 0501, 1400 Independence Avenue, SW., Washington, DC 20250-0501.

CATEGORIES OF INDIVIDUALS COVERED BY THE SYSTEM:

Minority farm land owners, operators and other producers who voluntarily request to be covered.

CATEGORIES OF RECORDS IN THE SYSTEM:

The system includes name, address, phone number, Social Security Number, farm location and race/ethnicity/gender coding provided by the individual.

AUTHORITY FOR MAINTENANCE OF THE SYSTEM:

7 U.S.C. 7901 et seq.; 15 U.S.C. 714 et seq.; and 16 U.S.C. 3831 et seq.

ROUTINE USES OF RECORDS MAINTAINED IN THE SYSTEM, INCLUDING CATEGORIES OF USERS AND THE PURPOSES OF SUCH USES:

Records contained in this system may be disclosed as follows:

(1) Records in the system will be disclosed and distributed to community-based organizations, educational institutions and government agencies assisting minorities with land retention and acquisition to ensure that USDA programs available for assisting farmers are widely publicized and accessible to all.

(2) USDA will disclose information in the system to a court or adjudicative body in a proceeding when:

(a) The agency or any component thereof;

(b) Any employee of the agency in his or her official capacity;

(c) Any employee of the agency in his or her individual capacity where the agency has agreed to represent the employee; or

(d) The U.S. Government is a party to litigation or has an interest in such litigation and, by careful review, determines that the records are both relevant and necessary to the litigation and the use of such records is therefore deemed by the agency to be for a purpose compatible with the purpose for which the agency collected the records.

(3) When a record on its face, or in conjunction with other records, indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the information disclosed is relevant to any enforcement, regulatory, investigative or prospective responsibility of the receiving entity.

(4) USDA will disclose information in the system to a Member of Congress or to a Congressional staff member in response to an inquiry from the Congressional office made at the written request of the constituent about whom the record is maintained.

(5) Records from this system of records may be disclosed to the National Archives and Records Administration or to the General Services Administration for records management inspections conducted under 44 U.S.C. 2904 and 2906.

(6) USDA will disclose information in the system to agency contractors, grantees, experts, consultants or volunteers who have been engaged by the agency to assist in the performance of a service related to this system of records and who need to have access to the records in order to perform the activity. Recipients shall be required to comply with the requirements of the Privacy Act of 1974, as amended, pursuant to 5 U.S.C. 552a(m); and

(7) USDA will disclose to members of Congress the names and addresses of producers.

POLICIES AND PRACTICES FOR STORING, RETRIEVING, ACCESSING, RETAINING, AND DISPOSING OF RECORDS IN THE SYSTEM:

STORAGE:

Records are maintained in file folders and Department computer systems at applicable location as set out above under the heading “System Location.”

RETRIEVABILITY:

Records are indexed by individual name, identification number, farm number, tax identification number, Social Security number and type of loan.

SAFEGUARDS:

Records, both paper and electronic, are accessible only to authorized personnel and are maintained in offices that are locked during non-duty hours. Access to these records is limited to authorized FSA personnel and representatives. Records stored in computer files are protected by passwords and other electronic security systems.

RETENTION AND DISPOSAL:

The Minority Farm Register will be recreated at biennial intervals to update name and address information and to ensure the inclusion of any changes in farm land ownership recorded in FSA records. A letter will be sent to all Register participants. The letter will clarify that there is no need for action if name, address or farm land circumstances have not changed. The Farm Service Agency will maintain a master file of each generation of the Voluntary Minority Farm Register electronically. Program documents will be destroyed within 10 years after end of participation.

SYSTEM MANAGER(S) AND ADDRESS:

Deputy Administrator for Field Operations, Farm Service Agency, STOP 0501, 1400 Independence Avenue, SW., Washington, DC 20250-0501.

NOTIFICATION PROCEDURE:

An individual may request information regarding this system of records, or information as to whether the system contains records pertaining to the individual, from the System Manager listed above.

RECORD ACCESS PROCEDURES:

An individual may obtain information about a record in the system that pertains to such individual by submitting a written request to the above listed System Manager. The envelope and letter should be marked “Privacy Act Request.” A request for information pertaining to an individual should contain: name, address, ZIP code, name of system of record (Minority Farm Register), year of records in question, and any other pertinent information to help identify the file.

CONTESTING RECORD PROCEDURES:

Individuals desiring to contest or amend information maintained in the system should direct their request to the above listed System Manager, and should include the reason for contesting it and the proposed amendment to the information with supporting information to show how the record is inaccurate. A request for contesting records pertaining to an individual should contain: name, address, ZIP code, name of system of record (Minority Farm Register), year of records in question, and any other pertinent information to help identify the file.

RECORD SOURCE CATEGORIES:

Information in this system comes only from the individuals who voluntarily sign up for the Register and who are the subjects of the files.

EXEMPTIONS CLAIMED FOR THE SYSTEM:

None.

[FR Doc. 03-28592 Filed 11-14-03; 8:45 am]

BILLING CODE 3410-05-P